AGENCY FOR INTERNATIONAL DEVELOPMENT

Senior Executive Service: Membership of Performance Review Board

ACTION: Notice.

SUMMARY: This notice lists approved candidates who will comprise a standing roster for service on the Agency's 2020 SES Performance Review Board.

FOR FURTHER INFORMATION CONTACT: Lena Travers at 202-712-5636 or ltravers@usaid.gov.

SUPPLEMENTARY INFORMATION: The Agency will use this roster to select SES Performance Review Board members. The standing roster is as follows:

Acevedo, Edward

Allen, Colleen

Bader, Harry

Baker, Shawn

Bertram, Robert

Broderick, Deborah

Buckley, Ruth

Chan, Carol

Collins, Gregory

Davis, Thomas

Detherage, Maria Price

Ehmann, Claire

Feinstein, Barbara

Foley, Jason

Girod, Gayle

Gressett, Donald

Jenkins, Robert

Jin, Jun

Johnson, Mark

Koek, Irene

Kuyumjian, Kent

Leavitt, William

Lewis, Kimberly

Longi, Maria

Mahanand, Vedjai

Mitchell, Reginald

Moore, David

Ohlweiler, John

Pascocello, Susan

Pryor, Jeanne

Schmitt, Tricia

Sokolowski, Alexander

Staley, Kenneth

Steele, Gloria

Steiger, William

Vera, Mauricio

Voorhees, John

Walther, Mark

Whyche-Shaw, Oren

Wolf, Mitchell

Karen Baquedano,
Director, Center for Performance Excellence.

[FR Doc. 2020-16287 Filed 7-27-20; 8:45 am]

BILLING CODE P